DEPARTMENT OF LABOR

Employment and Training Administration

[TA-W-83,190]

Rockwell Collins, Inc., Service Solutions Organization, Dallas Service Center, Including On-Site Leased Workers From Allegis Group and Donatech Corporation, Irving, Texas; Amended Certification Regarding Eligibility To Apply for Worker Adjustment Assistance

In accordance with Section 223 of the Trade Act of 1974, as amended (“Act”), 19 U.S.C. 2273, the Department of Labor issued a Certification of Eligibility to Apply for Worker Adjustment Assistance on January 8, 2014, applicable to workers of Rockwell Collins, Inc., Service Solutions Organization, Dallas Service Center, including on-site leased workers from Allegis Group, Irving, Texas. The workers are engaged in activities related to the supply of avionics equipment repair services. The notice was published in the Federal Register on January 28, 2013 (79 FR 4501).

At the request of a state workforce official, the Department reviewed the certification for workers of the subject firm. New information from the company shows that workers of Donatech Corporation were sufficiently under the operational control of the subject firm to be considered leased workers.

The intent of the Department's certification is to include all workers of the subject firm who were adversely affected as secondary workers.

The amended notice applicable to TA-W-83,190 is hereby issued as follows:

All workers of Rockwell Collins, Inc., Service Solutions Organization, Dallas Service Center, including on-site leased workers from Allegis Group and Donatech Corporation, Irving, Texas, who became totally or partially separated from employment on or after October 31, 2012 through January 8, 2016, and all workers in the group threatened with total or partial separation from employment on the date of certification through January 8, 2016, are eligible to apply for adjustment assistance under Chapter 2 of Title II of the Trade Act of 1974, as amended.

Signed at Washington, DC, this 31st day of March 2014.
Michael W. Jaffe,
Certifying Officer, Office of Trade Adjustment Assistance.

[FR Doc. 2014-08295 Filed 4-11-14; 8:45 am]

BILLING CODE 4510-FN-P